DEPARTMENT OF DEFENSE

Defense Acquisition Regulation System

[Docket No. DARS-2012-0036-001]

Submission for OMB Review; Comment Request

ACTION: Notice.

The Defense Acquisition Regulations System has submitted to OMB for clearance, the following proposal for collection of information under the provisions of the Paperwork Reduction Act (44 U.S.C. chapter 35).

DATES: Consideration will be given to all comments received by October 19, 2012.

Title, Associated Forms and OMB Number: Defense Federal Acquisition Regulation Supplement (DFARS) part 245, Government Property, and the following related clauses and forms: DD Form 1149, Requisition and Invoice/Shipping Document; DD Form 1348-1A, DoD Single Line item Release/Receipt Document; DD Form 1639, Scrap Warranty; DD Form 1640, Request for Plant Clearance; DD Form 1641, Disposal Determination/Approval; OMB Control Number 0704-0246.

Type of Request: Extension.

Number of Respondents: 16,075.

Responses per Respondent: 2.97.

Annual Responses: 47,815.

Average Burden per Response: 1.01 hours.

Annual Burden Hours: 48,423.

Needs and Uses: This requirement provides for the collection of information related to providing Government property to contractors; contractor use and management of Government property; and reporting, redistribution, and disposal of contractor inventory.

a. DFARS 245.302(1)(i) requires contractors to request and obtain contracting officer approval before using Government property on work for foreign governments and international organizations.

b. DFARS subpart 245.70, Plant Clearance Forms, prescribes the requirements for the use of the following forms:

(1) DD Form 1149, Requisition and Invoice/Shipping Document (JUL 2006): Prescribed at DFARS 245.7001-2, the form is completed by the contractor for transfer and donation of excess contractor inventory.

(2) DD Form 1348-1A, DoD Single Line Item Release/Receipt Document: Prescribed at DFARS 245.7001-3, the form is used when authorized by the plant clearance officer.

(3) DD Form 1640, Request for Plant Clearance (JUN 2003): Prescribed at DFARS 245.7001-4, the contractor completes this form to request plant clearance assistance or transfer plant clearance.

(4) DD Form 1641, Disposal Determination/Approval (APR 2000): Prescribed at DFARS 245.7001-5, this form is used to record rationale for the following disposal determinations:

(i) Downgrade useable property to scrap.

(ii) Abandonment or destruction.

(iii) Noncompetitive sale of surplus property.

(iv) Other disposal actions.

c. In addition, the following DD form is prescribed in the clause at DFARS 252.245-7004, Reporting, Reutilization, and Disposal (AUG 2011):

DD Form 1639, Scrap Warranty: When scrap is sold by the contractor, after Government approval, the purchaser of the scrap material(s) may be required to certify, by signature on the DD Form 1639, that (i) the purchased material will be used only as scrap and (ii), if sold by the purchaser, the purchaser will obtain an identical warranty from the individual buying the scrap from the initial purchaser. The warranty contained in the DD Form 1639 expires by its terms five years from the date of the sale.

Affected Public: Businesses or other for-profit and not-for-profit institutions.

Frequency: On occasion.

Respondent's Obligation: Required to obtain or maintain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Intructions: All submissions received must include the agency name, docket number, and title for the Federal Register document. The general policy for comments and other public submissions from members of the public is to make these submissions available for public viewing on the internet at http://www.regulations.gov as they are received without change, including any personal identifiers or contact information provided. To confirm receipt of your comment(s), please check http://www.regulations.gov approximately two to three days after submission to verify posting (except allow 30 days for posting of comments submitted by mail).

DoD Clearance Officer: Ms. Patricia Toppings.

Written requests for copies of the information collection proposal should be sent to Ms. Toppings at WHS/ESD/Information Management Division, 4800 Mark Center Drive, 2nd Floor, East Tower, Suite 02G09, Alexandria, VA 22350-3100.

Manuel Quinones,
Editor, Defense Acquisition Regulations System.

[FR Doc. 2012-22929 Filed 9-18-12; 8:45 am]

BILLING CODE 6820-ep-P